ENVIRONMENTAL PROTECTION AGENCY

[FRL-8207-8]

Meeting of the Local Government Advisory Committee

AGENCY: Environmental Protection Agency (EPA).

ACTION: Notice.

SUMMARY: The Local Government Advisory Committee (LGAC) will meet on Thursday, September 14, 2006, by conference call from 1-3 eastern daylight time. The conference call in number is (866) 299-3188 and the conference code, when prompted, is “2025642791.” The Committee will be discussing the agenda for the full LGAC meeting on October 31-November 2, 2006.

The Committee will hear comments from the public between 2:15-2:30 p.m. on the conference call. Each individual or organization wishing to address the LGAC meeting on the conference call will be allowed a maximum of five minutes to present their point of view. Please contact the Designated Federal Officer (DFO) at the number listed below to schedule agenda time. Time will be allotted on a first come, first serve basis, and the total period for comments may be extended, if the number of requests requires it.

This is an open meeting and all interested persons are invited to participate in the conference call. LGAC meeting minutes will be available after the meeting and can be obtained by an E-mail or written request to the DFO. Members of the public are requested to call the DFO at the number listed below if planning to participate.

DATES: The Local Government Advisory Committee will meet on September 14, 2006, by conference call from 1-3 eastern daylight time. The conference call in number is (866) 299-3188 and the conference code, when prompted, is “2025642791.”

ADDRESSES: Additional information can be obtained by writing the DFO at 1200 Pennsylvania Avenue, NW., (1301A), Washington, DC 20460.

FOR FURTHER INFORMATION CONTACT: Contact Roy Simon, Designated Federal Officer for the Local Government Advisory Committee (LGAC) at (202) 564-3868, or by E-mail at Simon.Roy@epa.gov.

Information on Services for the Disability: For information on access or services for individuals with disability, or to request accommodation for a disability, please contact Roy Simon at (202) 564-3868. Please place requests at least 5 days prior to the meeting, to give EPA as much time as possible to process your request.

Dated: August 1, 2006.
Roy Simon,
Designated Federal Officer, Local Government Advisory Committee.

[FR Doc. E6-13034 Filed 8-9-06; 8:45 am]

BILLING CODE 6560-50-P